DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: 3D Nation National Enhanced Elevation Study 2017.

OMB Control Number: 0648-xxxx.

Form Number(s): None.

Type of Request: Regular (request for a new information collection).

Number of Respondents: 800.

Average Hours per Response: One hour each for the questionnaire and a possible follow-up clarification interview.

Burden Hours: 1,050.

Needs and Uses: The National Oceanic and Atmospheric Administration (NOAA) Office of Coast Survey and the U.S. Geological Survey (USGS) National Geospatial Program plan to conduct a follow-on study to the National Enhanced Elevation Assessment (NEEA) white paper finalized in 2012 (NEEA overview can be found at https://pubs.usgs.gov/fs/2012/3088/). This NEEA follow-on study will incorporate coastal and ocean requirements for elevation data along with a revisit of the terrestrial elevation data needs assessed via a similar survey in 2010 (OMB Control No. 1028-0099). The primary tool to gather information will be a questionnaire covering a wide range of business uses that depend on 3D data to inform policy, regulation, scientific research, and management decisions. For purposes of this questionnaire, 3D data refers to topographic data (precise three-dimensional measurements of the terrestrial terrain) and bathymetric data (three-dimensional surface of the underwater terrain). Questions will be asked about how 3D data relate to other data types such as the shoreline; characteristics of tides, currents, and waves; and the physical and chemical properties of the water itself. A series of questions will be asked as they relate to specific Mission Critical Activities. These will include questions about the area (geographic extent), 3D data accuracy requirements, linkages to other data to support a wide range of analysis, and benefits of having the required data.

NOAA, USGS and partner mapping agencies are working to improve the technology systems, data, and services that provide information about 3D data and related applications within the United States. By learning more about business uses and associated benefits that would be realized from improved 3D data, the agencies will be able to prioritize and direct investments that will best serve user needs. This questionnaire is part of an effort to develop and refine future program alternatives that would provide enhanced 3D data to meet many Federal, State, and other national business needs.

Affected Public: Business or other for-profit organizations; not for profit institutions;

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: December 18, 2017.
Sarah Brabson,
NOAA PRA Clearance Officer.

[FR Doc. 2017-27553 Filed 12-21-17; 8:45 am]

BILLING CODE 3510-JE-P